NATIONAL AERONAUTICS AND SPACE ADMINISTRATION

[Notice (08-099)]

Notice of Information Collection

AGENCY: National Aeronautics and Space Administration.

ACTION: Notice of information collection cancellation.

SUMMARY: We are cancelling FR Notice 08-093, Information Collection Title: TITLE IX Survey, published at 73 FR 70678, November 21, 2008, because we determined the need to implement compliance programs under three additional grant-related civil rights laws for which NASA has regulations, i.e., Title VI of the Civil Rights Act of 1964, Section 504 of the Rehabilitation Act of 1973, and the Age Discrimination Act of 1975. In FY 2009, NASA will stand-up compliance programs involving at least one onsite compliance review pursuant to each of these laws. We also need to issue a notice of information collection that can support our compliance activities under all four laws, reflecting the differing coverage under each of the laws.

FOR FURTHER INFORMATION CONTACT: Dr. Walter Kit, NASA Clearance Officer, NASA Headquarters, 300 E Street SW., JF0000, Washington, DC 20546, (202) 358-1350, Walter.Kit-1@nasa.gov.

Walter Kit,
NASA Clearance Officer.

[FR Doc. E8-30732 Filed 12-24-08; 8:45 am]

BILLING CODE 7510-13-M